DEPARTMENT OF TRANSPORTATION

National Highway Traffic Safety Administration

[Docket No. NHTSA-2015-0126; Notice 1]

Supreme Corporation, Receipt of Petition for Decision of Inconsequential Noncompliance

AGENCY: National Highway Traffic Safety Administration (NHTSA), Department of Transportation (DOT).

ACTION: Receipt of petition.

SUMMARY: Supreme Corporation (Supreme), has determined that certain model year (MY) 2015-2016 Supreme Classic American Trolley buses manufactured between October 1, 2014 and November 2, 2015, do not fully comply with paragraph S6 of Federal Motor Vehicle Safety Standard (FMVSS) No. 205, Glazing Materials. Supreme filed a report pursuant to 49 CFR part 573, Defect and Noncompliance Responsibility and Reports. Supreme then petitioned NHTSA under 49 CFR part 556 requesting a decision that the subject noncompliance is inconsequential to motor vehicle safety.

DATES: The closing date for comments on the petition is April 4, 2016.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated above will be filed and will be considered. All comments and supporting materials received after the closing date will also be filed and will be considered to the extent possible. When the petition is granted or denied, notice of the decision will be published in the Federal Register pursuant to the authority indicated below.

SUPPLEMENTARY INFORMATION:

I. Overview

Pursuant to 49 U.S.C. 30118(d) and 30120(h) (see implementing rule at 49 CFR part 556), Supreme submitted a petition for an exemption from the notification and remedy requirements of 49 U.S.C. Chapter 301 on the basis that this noncompliance is inconsequential to motor vehicle safety.

This notice of receipt of Supreme's petition is published under 49 U.S.C. 30118 and 30120 and does not represent any agency decision or other exercise of judgment concerning the merits of the petition.

II. Buses Involved

Affected are approximately 21 MY 2015-2016 Supreme Classic American Trolley buses manufactured between October 1, 2014 and November 2, 2015.

III. Noncompliance

Supreme explains that the noncompliance is that the windshields on the subject Trolley's do not contain the “AS1” markings as required by paragraph S6 of FMVSS No. 205.

IV. Rule Text

Paragraph S6 of FMVSS No. 205 requires in pertinent part:

S6. Certification and marking.

S6.1 A prime glazing material manufacturer, must certify, in accordance with 49 U.S.C. 30115, each piece of glazing material to which this standard applies that is designed—

(a) As a component of any specific motor vehicle or camper; or

(b) To be cut into components for use in motor vehicles or items of motor vehicle equipment.

S6.2 A prime glazing manufacturer certifies its glazing by adding to the marks required by section 7 of ANSI/SAE Z26.1-1996, in letters and numerals of the same size, the symbol “DOT” and a manufacturer's code mark that NHTSA assigns to the manufacturer. NHTSA will assign a code mark to a manufacturer after the manufacturer submits a written request to the Office of Vehicle Safety Compliance, National Highway Traffic Safety Administration, 400 Seventh Street SW., Washington, DC 20590. The request must include the company name, address, and a statement from the manufacturer certifying its status as a prime glazing manufacturer as defined in S4.

In addition, paragraph S5.1 of FMVSS No. 205 incorporates by reference ANSI Z26.1-1996 and other industry standards. Specifically, Section 7 (Marking of Safety Glazing Materials) of ANSI Z26.1-1996 requires that:

In addition to any other markings required by law, ordinance, or regulation, all safety glazing materials manufactured for use in accordance with this standard shall be legibly and permanently marked in letters and numerals . . . with the words American National Standard or the characters AS and . . . In addition to the preceding markings and immediately adjacent to the words American National Standard or the characters AS, each piece of glazing material shall further be marked . . . if complying with the requirements of Section 4, Application of Tests, Item 1 with the numeral 1; . . .

V. Summary of Supreme's Analyses

Supreme stated its belief that the subject noncompliance is inconsequential to motor vehicle safety for the following reasons:

(1) Supreme stated that the subject windshields meet all performance and other requirements of FMVSS No. 205 with the exception of the subject noncompliance.

(2) Supreme stated its belief that repair services for the subject windshields will not be affected because replacement windshields are typically obtained through Supreme distributors who have the correct and compliant replacement glazing.

(3) Supreme also stated that they have not received any consumer complaints, claims, or warranty claims related to this noncompliance.

(4) Supreme additionally made mention of similar inconsequential noncompliance petitions that were granted by the agency relating noncompliances that Supreme believes are similar to the subject FMVSS No. 205 noncompliance.

Supreme has informed NHTSA that for all affected vehicles that remain in Supreme's inventory and the inventory of Supreme's distributors, permanent markings in compliance with FMVSS No. 205 will be added to the vehicle windshields before delivery under a sale or lease.

In summation, Supreme believes that the described noncompliance of the subject windshields is inconsequential to motor vehicle safety, and that its petition, to exempt Supreme from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject buses that Supreme no longer controlled at the time it determined that the noncompliance existed. However, any decision on this petition does not relieve equipment distributors and dealers of the prohibitions on the sale, offer for sale, or introduction or delivery for introduction into interstate commerce of the noncompliant buses under their control after Supreme notified them that the subject noncompliance existed.

Authority: 49 U.S.C. 30118, 30120: Delegations of authority at 49 CFR 1.95 and 501.8.

Jeffrey M. Giuseppe,
Director, Office of Vehicle Safety Compliance.

[FR Doc. 2016-04617 Filed 3-2-16; 8:45 am]

BILLING CODE 4910-59-P